DEPARTMENT OF COMMERCE

Economic Development Administration

Notice of Petitions by Firms for Determination of Eligibility To Apply for Trade Adjustment Assistance

AGENCY: Economic Development Administration, Department of Commerce.

ACTION: Notice and Opportunity for Public Comment.

Pursuant to section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment
[6/1/08 through 6/30/08]
Firm | Address | Date accepted for filing | Products
Pacific Die Casting Corporation | 5712 NW Fruit Valley Rd., Vancouver, WA 98660 | 6/16/2008 | Aluminum and zinc castings. Also provides the following services: Machining, plating, painting.
H.J. Bergeron Pecan Shelling Plant, LLC | 1003 False River Rd., New Roads, LA 70760 | 6/23/2008 | Processor of pecans for human consumption.
Metalworks Worldwide Inc | 3180 Berea Rd., Cleveland, OH 44111 | 6/24/2008 | Stamped parts of steel and aluminum.
Wesco Machine Products, Inc | S84 W18569 Enterprise, Muskego, WI 53150- | 6/24/2008 | The company is a manufacturer of precision machined metal parts.
E.J. Basler Co | 9511 West Ainslie Street, Schiller Park, IL 60176 | 6/2/2008 | The company is a high tolerance manufacturer of machined metal parts and fittings.
Miles Enterprises, Inc | 400-A Arundel Corporation, Glen Burnie, MD 21060- | 6/2/2008 | Manufacture custom cabinetry and millwork.
Blitz Manufacturing Co. of Indiana | 263 America Pl, Jeffersonville, IN 47130 | 6/9/2008 | Polishing clothes for metal and jewelry (cotton).
Perras Lumber, Inc | 45 Perras Road, Groveton, NH 03582 | 6/9/2008 | Perras Lumber produces board, ties, cants, grade lumber, pallet stock, pallets, wood chips.
Robbins Lumber, Inc | PO Box 9, Searsmont, ME 04973 | 6/3/2008 | Articles produced by Robbins Lumber include fingerjoint blocks, glued panels, saddle racks.
Z Becky Brown, Inc | 18 Tallawood Lane, Elgin, SC 29045 | 6/4/2008 | The company manufactures and markets a lady's handbag that is injection molded.
Western Technology Services | PO Box 2974, Casper, WY 82602 | 6/3/2008 | Manufacturer of truck bodies for special purpose vehicles for mining and construction.
Precision Source | 40 Maple Avenue, Esmond, RI 02917 | 6/3/2008 | Precision Source manufactures precision parts and quality turned components for Davenports, CNC.
Best Metal Fabricators, Inc | 3332 West Flower Street, Phoenix, AZ 85017 | 6/10/2008 | Best Metal Fabricators, Inc. specializes in precision machining and sheet metal.
Standard Printed Circuits, Inc. | 44 South Main Street, Sherburn, NY 13460 | 6/18/2008 | The company manufactures printed circuit boards from 1-14 layers, prototype through medium production.
Withers Manufacturing, Inc | 13533 S. State Hwy 51, Coweta, OK 74429 | 6/18/2008 | Custom sheet metal fabrication, machining, and assembly of custom machine units.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in section 315.9 of EDA's final rule (71 FR 56704) for procedures for requesting a public hearing. The Catalog of Federal Domestic Assistance official program number and title of the program under which these petitions are submitted is 11.313, Trade Adjustment Assistance.

Dated: June 30, 2008.
William P. Kittredge,
Program Officer for TAA.

[FR Doc. E8-15419 Filed 7-7-08; 8:45 am]

BILLING CODE 3510-24-P